SOCIAL SECURITY ADMINISTRATION

[Docket No. SSA 2014-0010]

Privacy Act of 1974, as Amended; Computer Matching Program (SSA/Centers for Medicare and Medicaid Services (CMS))—Match Number 1094

AGENCY: Social Security Administration (SSA).

ACTION: Notice of a renewal of an existing computer matching program that will expire on January 31, 2015.

SUMMARY: In accordance with the provisions of the Privacy Act, as amended, this notice announces a renewal of an existing computer matching program that we are currently conducting with CMS.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA With the Centers for Medicare and Medicaid Services (CMS)

A. Participating Agencies

SSA and CMS

B. Purpose of the Matching Program

The purpose of this matching program is to establish the terms, conditions, and safeguards under which CMS will disclose to us Medicare identifying and non-utilization information for Social Security title II beneficiaries aged 90 and above.

CMS will identify Medicare enrollees whose records have been inactive for three or more years. We will use this data as an indicator to select and prioritize cases for review to determine continued eligibility to title II benefits. We will contact these individuals to verify ongoing eligibility. We refer individual cases of suspected fraud, waste, or abuse to the Office of the Inspector General for investigation.

C. Authority for Conducting the Matching Program

This agreement is executed pursuant to the Privacy Act of 1974 (5 U.S.C. 552a), as amended by the Computer Matching and Privacy Protection Act of 1988 (Pub. L. 100-503), OMB Circular A-130 entitled, Management of Federal Information Resources, at 61 FR 6428-6435 (February 20, 1996), and OMB guidelines pertaining to computer matching at 54 FR 25818 (June 19, 1989).

Section 202 of the Social Security Act (Act) (42 U.S.C. 402) outlines the requirements for eligibility to receive Old-Age Survivors and Disability Insurance Benefits under title II. Section 205(c) of the Act (42 U.S.C. 405), directs the Commissioner of Social Security to verify the eligibility of a beneficiary.

This matching program employs systems containing Protected Health Information (PHI) as defined by Health and Human Services regulation “Standards for Privacy of Individually Identifiable Health Information” (45 CFR parts 160 and 164 (65 FR 82462, Parts A and E, published Dec. 28, 2000)). PHI authorized by the routine uses may only be disclosed if, and as permitted or required by the “Standard for Privacy of Individually Identifiable Health Information.” (45 CFR 164.512(d)).

D. Categories of Records and Persons Covered by the Matching Program

We will disclose to CMS information from Master Beneficiary Record (60-0090), published January 11, 2006 at 71 FR 1826. Routine use 23 permits us to disclose to Federal, state, or local agencies for administering income maintenance or health maintenance programs, including programs under the Act.

CMS will disclose to us information from National Claims History (09-70-0558), published November 20, 2006 at 71 FR 67137. Routine use 2 permits CMS to disclose to other Federal, state, or local agencies to administer income maintenance or health maintenance programs.

CMS will disclose to us information from Enrollment Data Base (09-70-0502), published February 26, 2008 at 73 FR 10249. Routine use 2 permits CMS to disclose to other Federal, state, or local agencies to administer income maintenance or health maintenance programs.

CMS will disclose to us information from Long Term Care—Minimum Data Set (90-70-0528), published March 19, 2007 at 72 FR 12801. Routine use 2 permits CMS to disclose to other Federal, state, or local agencies to administer income maintenance or health maintenance programs.

We will provide CMS with the following information for each individual in the finder file: Title II Claim Account Number (CAN), Title II Beneficiary Identification Code (BIC), Name, and Date of birth.

CMS will provide us with the following information for each individual in the reply file: Name, Date of birth, Social Security number, Date of death, CMS file number (equivalent to our title II CAN & BIC), Beneficiary Group Health Organization start date, Beneficiary Group Health Organization disenrollment date, and Health Maintenance Organization provider name and code.

E. Inclusive Dates of the Matching Program

The effective date of this matching program is August 1, 2014, provided that the following notice periods have lapsed: 30 days after publication of this notice in the Federal Register and 40 days after notice of the matching program is sent to Congress and OMB. The matching program will continue for 18 months from the effective date and, if both agencies meet certain conditions, it may extend for an additional 12 months thereafter.

[FR Doc. 2014-16503 Filed 7-14-14; 8:45 am]

BILLING CODE 4191-02-P